DEPARTMENT OF THE INTERIOR

Bureau of Land Management

[AK-964-1410-HY-P; F-14826-B (DYA-6)]

Alaska Native Claims Selection

AGENCY: Bureau of Land Management, Interior.

ACTION: Notice of decision approving lands for conveyance.

SUMMARY: As required by 43 CFR 2650.7(d), notice is hereby given that an appealable decision approving lands for conveyance pursuant to the Alaska Native Claims Settlement Act will be issued to K'oyitl'ots'ina, Limited. The lands are located in T. 21 N., R. 23 W., and T. 20 N., R. 25 W., Fairbanks Meridian, in the vicinity of Alatna, Alaska, aggregating 4,997.54 acres. Notice of the decision will also be published four times in the Fairbanks Daily News Miner.

DATES: The time limits for filing an appeal are:

1. Any party claiming a property interest which is adversely affected by the decision shall have until August 29, 2005 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7599.

FOR FURTHER INFORMATION CONTACT: Joe J. Labay by phone at 907-271-3340, or by e-mail at joe_labay@ak.blm.gov.

Joe J. Labay,
Resolution Specialist, Branch of Preparation and Resolution.

[FR Doc. 05-14940 Filed 7-27-05; 8:45 am]

BILLING CODE 4310-$$-P